DEPARTMENT OF THE TREASURY

Submission for OMB Review; Comment Request

December 6, 2012.

The Department of the Treasury will submit the following information collection request to the Office of Management and Budget (OMB) for review and clearance in accordance with the Paperwork Reduction Act of 1995, Public Law 104-13, on or after the date of publication of this notice.

DATES: Comments should be received on or before January 11, 2013 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request maybe found at www.reginfo.gov.

Internal Revenue Service (IRS)

OMB Number: 1545-0162.

Type of Review: Reinstatement without change of a previously approved collection.

Title: Credit for Federal Tax Paid on Fuels.

Form: 4136.

Abstract: Internal Revenue Code section 34 allows a credit for Federal excise tax for certain fuel uses. This form is used to figure the amount of the income tax credit. The data is used to verify the validity of the claim for the type of nontaxable or exempt use.

Affected Public: Private Sector: Businesses or other For-Profit Institutions.

Estimated Total Burden Hours: 4,122,067.

OMB Number: 1545-2001.

Type of Review: Reinstatement without change of a previously approved collection.

Title: Rev. Proc. 2006-16, Renewal Community Depreciation Provisions.

Abstract: This revenue procedure provides the time and manner for states to make retroactive allocations of commercial revitalization expenditure amounts to certain buildings placed is service in the expanded area of renewal community pursuant to Sec. 1400E(g) of the Internal Revenue Code.

Affected Public: Private Sector: Businesses or other For-Profit Institutions.

Estimated Total Burden Hours: 150.

OMB Number: 1545-1850.

Type of Review: Reinstatement without change of a previously approved collection.

Title: REG-140930-02 (TD 9178—Final) Testimony or Production of Records in a Court or Other Proceeding (TD 9178).

Abstract: This document contains final regulations replacing the existing regulation that establishes the procedures to be followed by IRS officers and employees upon receipt of a request or demand for disclosure of IRS records or information. The purpose of the final regulations is to provide specific instructions and to clarify the circumstances under which more specific procedures take precedence. The final regulations extend the application of the regulation to former IRS officers and employees as well as to persons who are or were under contract to the IRS. The final regulations affect current and former IRS officers, employees and contractors, and persons who make requests or demands for disclosure.

Affected Public: Individuals or Households.

Estimated Total Burden Hours: 1,400.

Robert Dahl,
Treasury PRA Clearance Officer.

[FR Doc. 2012-29933 Filed 12-11-12; 8:45 am]

BILLING CODE 4810-01-P